NATIONAL FOUNDATION ON THE ARTS AND THE HUMANITIES

National Endowment for the Arts; Fellowships Advisory Panel

Pursuant to Section 10(a)(2) of the Federal Advisory Committee Act (Pub. L. 92-463), as amended, notice is hereby given that a meeting of the Fellowships Advisory Panel, Literature section (Creative Writing Fellowships category), to the National Council on the Arts will be held from September 11-14, 2000 in Room M-07 at the Nancy Hanks Center, 1100 Pennsylvania Avenue, NW, Washington, DC 20506. A portion of this meeting, from 9:00 a.m. to 11:00 a.m. on September 14th, will be open to the public for policy discussion and guidelines review.

The remaining portions of this meeting, from 9:00 a.m. to 5:00 p.m. on September 11th, from 9:00 a.m. to 6:30 p.m. on September 12th and 13th, and from 11:00 a.m. to 5:00 p.m. on September 14th, are for the purpose of Panel review, discussion, evaluation, and recommendation on applications for financial assistance under the National Foundation on the Arts and the Humanities Act of 1965, as amended, including information given in confidence to the agency by grant applicants. In accordance with the determination of the Chairman of May 12, 2000, these sessions will be closed to the public pursuant to (c)(4)(6) and (9)(B) of section 552b of Title 5, United States Code.

Any person may observe meetings, or portions thereof, of advisory panels that are open to the public, and, if time allows, may be permitted to participate in the panel's discussions at the discretion of the panel chairman and with the approval of the full-time Federal employee in attendance.

If you need special accommodations due to a disability, please contact the Office of AccessAbility, National Endowment for the Arts, 1100 Pennsylvania Avenue, NW, Washington, DC 20506, 202/682-5532, TDY-TDD 202/682-5496, at least seven (7) days prior to the meeting.

Further information with reference to this meeting can be obtained from Ms. Kathy Plowitz-Worden, Office of Guidelines & Panel Operations, National Endowment for the Arts, Washington, DC 20506, or call 202/682-5691.

Dated: August 17, 2000.
Kathy Plowitz-Worden,
Panel Coordinator, Panel Operations, National Endowment for the Arts.

[FR Doc. 00-21489 Filed 8-22-00; 8:45 am]

BILLING CODE 7537-01-M